DEPARTMENT OF LABOR

Office of Workers' Compensation Programs

Proposed Extension of Existing Collection; Comment Request; Administration of the Longshore and Harbor Workers' Compensation Act

AGENCY: Division of Longshore and Harbor Worker's Compensation, Office of Workers' Compensation Program, Department of Labor.

ACTION: Notice.

SUMMARY: The Department of Labor (DOL) is soliciting comments concerning a proposed extension for the authority to conduct the information collection request (ICR) titled, “Administration of the Longshore and Harbor Workers' Compensation Act.” This comment request is part of continuing Departmental efforts to reduce paperwork and respondent burden in accordance with the Paperwork Reduction Act of 1995 (PRA).

DATES: Consideration will be given to all written comments received by April 27, 2020. Please note that this collection contains the request for approval of one additional form, LS-272—Application to Write Longshore Insurance.

ADDRESSES: A copy of this ICR with applicable supporting documentation; including a description of the likely respondents, proposed frequency of response, and estimated total burden may be obtained for free by contacting Anjanette Suggs by telephone at 202-354-9660 or by email at suggs.anjanette@dol.gov.

Submit written comments about this ICR by mail or courier to the U.S. Department of Labor, Office of Workers' Compensation Programs, Room S3323, 200 Constitution Avenue NW, Washington, DC 20210; or by email at suggs.anjanette@dol.gov. Please note that comments submitted after the comment period will not be considered.

FOR FURTHER INFORMATION CONTACT: Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Office of Workers' Compensation Programs (OWCP) administers the Longshore and Harbor Workers' Compensation Act (LHWCA). LHWCA provides benefits to workers injured in maritime employment on the navigable waters of the United States or in an adjoining area customarily used by an employer in loading, unloading, repairing, or building a vessel. In addition, several Acts extend the Longshore Act's coverage to certain other employees.

The Secretary of Labor has authority to make rules and regulations to establish procedures which are necessary or appropriate to carry out the provisions of the Act. 33 U.S.C. 939, 944. The Secretary has delegated that authority to the Director, Office of Workers' Compensation Programs. Secretary's Order 10-2009; Public Law 111-5 § 803, 123 Stat. 115, 187 (2009).

A claimant's social security number may be requested pursuant to Public Law 103-112 and the regulations at 20 CFR 702.202 and 702.221. This information collection is subject to the PRA. A Federal agency generally cannot conduct or sponsor a collection of information, and the public is generally not required to respond to an information collection, unless the OMB under the PRA approves it and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration, and summarized and included in the request for OMB approval of the final ICR. In order to help ensure appropriate consideration, comments should mention OMB No. 1240-0014.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL—Office of Workers' Compensation Programs.

Type of Review: Revision.

Title of Collection: Regulations governing the administration of the Longshore and Harbor Workers' Compensation Act.

Form:

LS-200 (20 CFR 702.285)

20 CFR 702.162 (Liens)

20 CFR 702.174 (Certifications)

20 CFR 702.175 (Reinstatements)

20 CFR 702.242 (Settlement Applications)

20 CFR 702.321 (Section 8(f) Payments)

ESA-100 (20 CFR 702.201)

LS-271 (Application for Self-Insurance)

LS-272 (Application to Write Longshore Insurance)

LS-274 (Report of Injury Experience of Insurance Carrier or Self-Insured Employer)

LS-201 (Notice of Employee's Injury or Death)

LS-513 (Report of Payments)

LS-267 (Claimant's Statement)

LS-203 (Employee's Claim for Compensation)

LS-204 (Attending Physician's Supplementary Report)

LS-262 (Claim for Death Benefits)

OMB Control Number: 1240-0014.

Affected Public: Private Sector.

Estimated Number of Respondents: 53,842.

Frequency: On occasion.

Total Estimated Annual Responses: 53,842.

Estimated Average Time per Response: 1.11 hours.

Estimated Total Annual Burden Hours:

Burden summary | Hours
LS-200 (20 CFR 702.285) | 349
20 CFR 702.162 (Liens) | 5
20 CFR 702.174 (Certifications) | 4
20 CFR 702.175 (Reinstatements) | 1
20 CFR 702.242 (Settlement Applications | 4,080
20 CFR 702.321 (Section 8(f) Payments) | 2,900
ESA-100 (20 SFR 702.201) | 840
LS-271 (Self Insurance Application) | 27
LS-272 (Application to write Longshore Insurance) | 30
LS-274 (Injury Report of Insurance Carrier and Self-Insured Employer) | 552
LS-201 (Injury or Death Notice) | 250
LS-513 (Payment Report) | 271
LS-267 (Claimant's Statement) | 25
LS-203 (Employee Comp. Claim) | 1,148
LS-204 (Medical Report) | 10,200
LS-262 (Claim for Death Benefits) | 70
Total Burden Hours | 20,752

Total Estimated Annual Other Cost Burden: $9,524.76.

(Authority: 44 U.S.C. 3506(c)(2)(A))

Anjanette Suggs,
Agency Clearance Officer.

[FR Doc. 2020-03910 Filed 2-26-20; 8:45 am]

BILLING CODE P